DEPARTMENT OF HEALTH AND HUMAN SERVICES

Administration for Children and Families

Submission for OMB Review; Comment Request

Title: Multi-site Evaluation for Foster Youth Programs.

OMB No.: 0970-0253.

Description: The Administration for Children and Families (ACF) within the Department of Health and Human Services (HHS) is requesting comments on plans to continue data collection for the Evaluation of Independent Living Programs funded under the Chafee Foster Care Independence Program. The Foster Care Independence Act of 1999 (Pub. L. 106-169) mandates evaluations of promising independent living programs administered by State and local child welfare agencies. ACF is conducting an evaluation of four independent living programs using a randomized experimental design. Youth aged 14-21 receiving independent living program services are interviewed at three points during the evaluation period. Program administrators, staff, and youth will participate in interviews, observations, and focus groups conducted during program site visits.

In addition, ACF is requesting comments on plans to begin data collection and conduct an evaluation of a fifth independent living program using a randomized experimental design. Youth aged 18-21 will be interviewed at three points during the evaluation period. Program administrators, staff, and youth will participate in interviews, observations, and focus groups conducted during the program site visits.

Respondents: Youth, caseworkers, program administrators, and staff.

Annual Burden Estimates
Instrument | Number of respondents | Number of responses per respondent | Average burden hours per response | Total burden hours
Ongoing Study Sites
Baseline:
Youth interview | 98 | 1 | 1.5 | 147
Caseworker survey | 4 | 19 | .5 | 38
First Follow Up:
Youth interview | 177 | 1 | 1.5 | 266
Caseworker survey | 4 | 36 | .5 | 72
Program site visit | 50 | 1 | 1.5 | 75
Second Follow Up:
Youth interview | 370 | 1 | 1.5 | 555
New (5th) Study Site
Baseline:
Youth interview | 250 | 1 | 1.5 | 375
Program site visit | 80 | 1 | 1.5 | 120
First Follow Up:
Youth interview | 213 | 1 | 1.5 | 320
Program site visit | 50 | 1 | 1.5 | 75
Second Follow Up:
Youth interview | 200 | 1 | 1.5 | 300

Estimated Total Burden Hours: 2,343.

Estimated Annual Burden Hours (average over three years): 781.

Additional Information

Copies of the proposed collection may be obtained by writing to the Administration for Children and Families, Office of Administration, Office of Information Services, 370 L'Enfant Promenade, SW., Washington, DC 20447, Attn: ACF Reports Clearance Officer. All requests should be identified by the title of the Information collection. E-mail address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACR, E-mail address: Katherine_T._Astrich@omb.eop.gov.

Dated: July 18, 2006.
Robert Sargis.
Reports Clearance Officer.

[FR Doc. 06-6405 Filed 7-21-06; 8:45 am]

BILLING CODE 4184-01-M